DEPARTMENT OF THE INTERIOR

National Park Service

[NPS-WASO-NAGPRA-22418; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Peabody Museum of Natural History. If no additional requestors come forward, transfer of control of the human remains to the Indian tribes or Native Hawaiian organizations stated in this notice may proceed.

DATES: Representatives of any Indian tribe or Native Hawaiian organization not identified in this notice that wish to request transfer of control of these human remains should submit a written request with information in support of the request to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from a mound near Fort Sisseton, Marshall County, SD.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Peabody Museum of Natural History professional staff in consultation with representatives of the Lower Sioux Indian Community, Minnesota and the Sisseton-Wahpeton Oyate of the Lake Traverse Reservation, South Dakota. During consultation it was determined there is insufficient evidence to make a determination of cultural affiliation.

History and Description of the Remains

Sometime prior to 1916, human remains representing, at minimum, five individuals were removed from a mound near Fort Sisseton in Marshall County, SD. The human remains were donated to the Peabody Museum of Natural History in 1916. No known individuals were identified. No associated funerary objects are present.

Determinations Made by the Peabody Museum of Natural History

Officials of the Peabody Museum of Natural History have determined that:

• Pursuant to 25 U.S.C. 3001(9), the human remains described in this notice are Native American based on the collection history as well as the biological/osteological markers.

• Pursuant to 25 U.S.C. 3001(9), the human remains described in this notice represent the physical remains of five individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Sisseton-Wahpeton Oyate of the Lake Traverse Reservation, South Dakota.

• Treaties, Acts of Congress, or Executive Orders, indicate that the land from which the Native American human remains were removed is the aboriginal land of the Sisseton-Wahpeton Oyate of the Lake Traverse Reservation, South Dakota.

• Pursuant to 43 CFR 10.11(c)(1), the disposition of the human remains may be to the Sisseton-Wahpeton Oyate of the Lake Traverse Reservation, South Dakota.

Additional Requestors and Disposition

Representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752, by January 3, 2017. After that date, if no additional requestors have come forward, transfer of control of the human remains to the Sisseton-Wahpeton Oyate of the Lake Traverse Reservation, South Dakota may proceed.

The Peabody Museum of Natural History is responsible for notifying the Sisseton-Wahpeton Oyate of the Lake Traverse Reservation, South Dakota that this notice has been published.

Dated: November 15, 2016.
Melanie O'Brien,
Manager, National NAGPRA Program.

[FR Doc. 2016-28946 Filed 12-1-16; 8:45 am]

BILLING CODE 4312-52-P